DEPARTMENT OF THE INTERIOR

Bureau of Land Management

[AK-930-08-1310-DR-NESP]

Notice of Availability of the Record of Decision for the Northeast National Petroleum Reserve—Alaska (NPR-A) Supplemental Integrated Activity Plan (IAP)

AGENCY: Bureau of Land Management, Interior.

ACTION: Notice of Availability of Record of Decision (ROD).

SUMMARY: The BLM announces the availability of the ROD for the Northeast NPR-A planning area, located within the NPR-A in northern Alaska.

ADDRESSES: Copies of the Northeast NPR-A Supplemental IAP ROD are available upon request from Jim Ducker, Alaska State Office, Bureau of Land Management, 222 W. 7th Avenue, Anchorage, AK 99513, or via the Internet at http://www.blm.gov/ak.

FOR FURTHER INFORMATION CONTACT: Jim Ducker, Environmental Program Analyst, Alaska State Office, Bureau of Land Management, 222 W. 7th Avenue, Suite #13, Anchorage, AK 99513, (907) 271-3130.

SUPPLEMENTARY INFORMATION: The Northeast NPR-A Supplemental IAP ROD completes a planning effort initiated in 2003 to amend the Northeast NPR-A IAP of 1998. The BLM completed the Northeast NPR-A Amended IAP/EIS in 2005 and issued a ROD based on the IAP/EIS in January 2006. In September 2006, the U.S. District Court for the District of Alaska found the Amended IAP/EIS's analysis inadequate and vacated the ROD for the Amended IAP/EIS. The BLM initiated the Supplemental IAP/EIS to address the inadequacies of the Amended IAP/EIS. The BLM issued a Draft Supplemental IAP/EIS for the planning area in August 2007 and a Final Supplemental IAP/EIS in May 2008.

The plan adopted in the Supplemental IAP ROD is essentially the same as Alternative D, the Preferred Alternative, in the Final Supplemental IAP/EIS. The ROD makes approximately 4 million acres available for oil and gas leasing immediately and approximately 430,000 additional acres available for leasing after ten years. The ROD provides for protection of surface values in lands available for leasing through a range of protective measures, such as restrictions on where permanent oil and gas facilities may be located, seasonal restrictions on certain activities, and restrictions on how activities may be conducted to minimize impacts. Most changes between the Final Supplemental IAP/EIS and the ROD reflect adoption of potential mitigation measures to provide additional protection for air quality, fish, birds, and public health.

Thomas P. Lonnie,
State Director.

[FR Doc. E8-16978 Filed 7-23-08; 8:45 am]

BILLING CODE 4310-JA-P